DEPARTMENT OF TRANSPORTATION

Federal Aviation Administration

[Docket No. FRA-2022-1712]

Agency Information Collection Activities: Requests for Comments; Clearance of a Renewed Approval of Information Collection: Flight Attendant Fatigue Risk Management Plan

AGENCY: Federal Aviation Administration (FAA), DOT.

ACTION: Notice and request for comments.

SUMMARY: In accordance with the Paperwork Reduction Act of 1995, FAA invites public comments about our intention to request the Office of Management and Budget (OMB) approval to renew an information collection. The collection involves submission of Fatigue Risk Management Plans (FRMP) for flight attendants of certificate holders operating under Title 14 of the Code of Federal Regulations (CFR) part 121. The certificate holders will submit the information to be collected to the FAA for review and acceptance as required by the FAA Reauthorization Act of 2018.

DATES: Written comments should be submitted by February 14, 2023.

ADDRESSES: Please send written comments:

By Electronic Docket: www.regulations.gov (Enter docket number into search field).

By mail: Sandra Ray, Federal Aviation Administration, Voluntary Programs and Rulemaking Section AFS-260, 1187 Thorn Run Road, Suite 200, Coraopolis, PA 15108.

By fax: 412-239-3063.

FOR FURTHER INFORMATION CONTACT: Sandra L. Ray by email at: Sandra.ray@faa.gov; phone: 412-329-3088.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0789.

Title: Flight Attendant Fatigue Risk Management Plan.

Form Numbers: None.

Type of Review: Renewal of an information collection.

Background: On October 5, 2018, Congress enacted Public Law 115-254, the FAA Reauthorization Act of 2018 (“the Act”). Section 335(b) of the Act required each certificate holder operating under 14 CFR part 121 to submit to the FAA for review and acceptance a Fatigue Risk Management Plan (FRMP) for each certificate holder's flight attendants. Section 335(b) contains the required contents of the FRMP, including a rest scheme consistent with current flight time and duty period limitations and development and use of methodology to continually assess the effectiveness of the ability of the plan to improve alertness and mitigate performance errors. Section 335(b) requires that each certificate holder operating under 14 CFR part 121 shall update its FRMP every two years and submit the update to the FAA for review and acceptance. Further, section 335(b) of the Act requires each certificate holder operating under 14 CFR part 121 to comply with its FRMP that is accepted by the FAA.

Respondents: 55 Part 121 Air Carriers and 2 new entrants

Frequency: 1 initial submission and then updates every 2 years

Estimated Average Burden per Response: 20 Hours for Initial Submission, 5 Hours for Updates.

Estimated Total Annual Burden: 40 Hours per year for Initial Submission, 275 Hours per year for updates.

Issued in Washington, DC on December 14, 2022.
Sandra L. Ray,
Aviation Safety Inspector, AFS-260.

[FR Doc. 2022-27300 Filed 12-15-22; 8:45 am]

BILLING CODE 4910-13-P